DEPARTMENT OF THE INTERIOR

Bureau of Ocean Energy Management

[MMAA104000]

Outer Continental Shelf Official Protraction Diagrams and Supplemental Official Outer Continental Shelf Block Diagrams

AGENCY: Bureau of Ocean Energy Management (BOEM), Interior.

ACTION: Availability of Revised North American Datum of 1927 (NAD 27) Outer Continental Shelf Official Protraction Diagrams and Supplemental Official Outer Continental Shelf Block Diagrams.

SUMMARY: Notice is hereby given of the availability of certain NAD 27-based Outer Continental Shelf (OCS) Official Protraction Diagrams (OPDs) and Supplemental Official OCS Block Diagrams (SOBDs) depicting geographic areas located in the Gulf of Mexico. BOEM, in accordance with its authority and responsibility under the OCS Lands Act, is announcing the availability of maps used for the description of renewable energy, mineral, and oil and gas lease sales in the geographic areas they represent.

The following twelve (12) OPDs (dated October 1, 2014) have been revised to reflect coast line data of the Gulf Coast of Florida that was originally approved by the U.S. Baseline Committee in 1999. Specifically, the coast line, Submerged Lands Act boundary, and the OCS Lands Act “Section 8(g) Zone” boundary have been revised. Eight (8) SOBDs (dated October 1, 2014) located within OPD NH16-05 (Pensacola) have been revised to reflect the intersection of the Submerged Lands Act and Section 8(g) Zone boundaries for the States of Florida and Alabama (known as the “Florida wrap-around”). Two (2) SOBDs (dated October 1, 2014) also located within OPD NH16-05 (Pensacola) have been revised to reflect the intersection of the Submerged Lands Act and Section 8(g) Zone boundaries with the “Military Mission Line.”

BOEM is also publishing a total of six hundred ninety-two (692) SOBDs that were generated by the Minerals Management Service (a predecessor bureau of BOEM) using coast line data that was originally approved by the U.S. Baseline Committee in 1999. These SOBDs (dated March 1, 1999) reflect the Submerged Lands Act and the Section 8(g) Zone boundaries adjacent to the Gulf Coast of Florida. In 2000, the SOBDs were submitted to the State of Florida for signature, indicating their concurrence with the MMS depiction of the boundaries. Although Florida did not sign the SOBDs, the diagrams reflect the current Federal position of these boundaries, and will eventually be superseded by diagrams with an updated format and BOEM logo. BOEM will continue working with Florida to resolve any areas of boundary discrepancy.

Outer Continental Shelf Official Protraction Diagrams in the Gulf of Mexico

Description/Date

NG17-01 (Saint Petersburg)—10/01/2014

NG17-04 (Charlotte Harbor)—10/01/2014

NG17-05 (West Palm Beach)—10/01/2014

NG17-07 (Pulley Ridge)—10/01/2014

NG17-08 (Miami)—10/01/2014

NG17-10 (Dry Tortugas)—10/01/2014

NG17-11 (Key West)—10/01/2014

NH16-05 (Pensacola)—10/01/2014

NH16-08 (Destin Dome)—10/01/2014

NH16-09 (Apalachicola)—10/01/2014

NH17-07 (Gainesville)—10/01/2014

NH17-10 (Tarpon Springs)—10/01/2014

Supplemental Official Outer Continental Shelf Block Diagrams in the Gulf of Mexico, All Located Within Official Protraction Diagram NG17-01 (Saint Petersburg)

Diagram Revised/Date/Block Numbers

Submerged Lands Act and “Section 8(g) Zone” blocks (Total of 65)—3/01/1999:

20, 21, 64, 65, 108, 109, 152, 153, 196, 197, 198, 240, 241, 242, 243, 285, 286, 287, 329, 330, 331, 373, 374, 375, 417, 418, 419, 461, 462, 463, 506, 507, 508, 550, 551, 552, 595, 596, 639, 640, 641, 684, 685, 686, 729, 730, 731, 773, 774, 775, 818, 819, 820, 862, 863, 864, 907, 908, 909, 951, 952, 953, 996, 997, 998.

Supplemental Official Outer Continental Shelf Block Diagrams in the Gulf of Mexico, All Located Within Official Protraction Diagram NG17-04 (Charlotte Harbor)

Diagram Revised/Date/Block Numbers

Submerged Lands Act and “Section 8(g) Zone” blocks (Total of 73)—3/01/1999:

28, 29, 30, 73, 74, 75, 117, 118, 119, 162, 163, 164, 206, 207, 208, 251, 252, 253, 295, 296, 297, 339, 340, 341, 384, 385, 428, 429, 430, 472, 473, 474, 517, 518, 561, 562, 563, 605, 606, 607, 650, 651, 652, 653, 695, 696, 697, 698, 699, 701, 740, 741, 742, 743, 744, 745, 746, 786, 787, 788, 789, 790, 833, 834, 877, 878, 921, 922, 965, 966, 1009, 1010, 1011.

Supplemental Official Outer Continental Shelf Block Diagrams in the Gulf of Mexico, All Located Within Official Protraction Diagram NG17-07 (Pulley Ridge)

Diagram Revised/Date/Block Numbers

Submerged Lands Act and “Section 8(g) Zone” blocks (Total of 8)—3/01/1999:

42, 43, 86, 87, 130, 131, 175, 219.

Supplemental Official Outer Continental Shelf Block Diagrams in the Gulf of Mexico, All Located Within Official Protraction Diagram NG17-08 (Miami)

Diagram Revised/Date/Block Numbers

Submerged Lands Act and “Section 8(g) Zone” blocks (Total of 72)—3/01/1999:

89, 133, 134, 177, 178, 221, 222, 223, 265, 266, 267, 268, 269, 270, 271, 272, 311, 312, 313, 314, 315, 316, 317, 359, 360, 361, 404, 405, 406, 449, 450, 451, 494, 495, 538, 539, 540, 583, 584, 627, 628, 629, 671, 672, 715, 716, 759, 760, 803, 804, 847, 848, 849, 892, 893, 933, 934, 935, 936, 937, 938, 939, 975, 976, 977, 978, 979, 980, 981, 982, 983, 984.

Supplemental Official Outer Continental Shelf Block Diagrams in the Gulf of Mexico, All Located Within Official Protraction Diagram NG17-10 (Dry Tortugas)

Diagram Revised/Date/Block Numbers

Submerged Lands Act and “Section 8(g) Zone” blocks (Total of 102)—3/01/1999:

109, 110, 111, 112, 113, 114, 151, 152, 153, 154, 155, 156, 157, 158, 159, 160, 169, 170, 171, 173, 174, 175, 194, 195, 196, 197, 202, 203, 204, 211, 212, 213, 214, 215, 216, 217, 218, 219, 237, 238, 239, 247, 248, 249, 254, 255, 256, 257, 258, 259, 260, 261, 262, 281, 282, 291, 292, 293, 298, 299, 300, 325, 326, 336, 337, 341, 342, 343, 369, 370, 371, 372, 373, 374, 375, 376, 377, 378, 413, 414, 415, 457, 458, 459, 460, 502, 503, 504, 547, 548, 592, 636, 680, 724, 768, 812, 856, 900, 944, 969, 970, 988.

Supplemental Official Outer Continental Shelf Block Diagrams in the Gulf of Mexico, All Located Within Official Protraction Diagram NG17-11 (Key West)

Diagram Revised/Date/Block Numbers

Submerged Lands Act and “Section 8(g) Zone” blocks (Total of 29)—3/01/1999:

5, 6, 7, 8, 9, 11, 12, 13, 14, 15, 16, 47, 48, 49, 50, 51, 59, 60, 89, 90, 91, 92, 93, 133, 134, 135, 136, 177, 178.

Supplemental Official Outer Continental Shelf Block Diagrams in the Gulf of Mexico, All Located Within Official Protraction Diagram NH16-05 (Pensacola)

Diagram Revised/Date/Block Numbers

Intersection of the Submerged Lands Act and “Section 8(g) Zone” boundaries for the States of Florida and Alabama (“Florida wrap-around”) blocks (Total of 8)—10/01/2014:

753, 754, 797, 798, 841, 842, 885, 886.

Intersection of the Submerged Lands Act and “Section 8(g) Zone” boundaries with the “Military Mission Line” (Total of 2)—10/01/2014:

770, 814.

Submerged Lands Act and “Section 8(g) Zone” blocks (Total of 86)—3/01/1999:

727, 728, 753, 754, 764, 765, 766, 767, 768, 769, 770, 771, 772, 773, 774, 775, 776, 777, 778, 797, 798, 801, 802, 803, 804, 805, 806, 807, 808, 809, 810, 811, 812, 813, 814, 815, 816, 817, 818, 819, 820, 821, 822, 823, 824, 825, 841, 842, 843, 844, 845, 846, 847, 848, 849, 850, 851, 852, 853, 866, 867, 868, 869, 870, 871, 872, 885, 886, 887, 888, 889, 890, 913, 914, 915, 916, 917, 959, 960, 961, 962, 963, 1005, 1006, 1007, 1008.

Supplemental Official Outer Continental Shelf Block Diagram in the Gulf of Mexico, Located Within Official Protraction Diagram NH16-08 (Destin Dome)

Diagram Revised/Date/Block Number

Submerged Lands Act and “Section 8(g) Zone” block (Total of 1)—3/01/1999:

38.

Supplemental Official Outer Continental Shelf Block Diagrams in the Gulf of Mexico, All Located Within Official Protraction Diagram NH16-09 (Apalachicola)

Diagram Revised/Date/Block Numbers

Submerged Lands Act and “Section 8(g) Zone” blocks (Total of 115)—3/01/1999:

1, 2, 3, 4, 35, 36, 45, 46, 47, 48, 49, 79, 80, 81, 91, 92, 93, 94, 122, 123, 124, 136, 137, 138, 165, 166, 167, 168, 181, 182, 206, 207, 208, 209, 210, 211, 225, 226, 227, 249, 250, 251, 252, 253, 254, 270, 271, 291, 292, 293, 294, 295, 314, 315, 316, 334, 335, 336, 337, 338, 358, 359, 360, 377, 378, 379, 380, 403, 404, 405, 419, 420, 421, 422, 447, 448, 449, 450, 451, 452, 453, 454, 461, 462, 463, 464, 465, 492, 493, 494, 495, 496, 497, 498, 499, 500, 503, 504, 505, 506, 507, 542, 543, 544, 545, 546, 547, 548, 549, 550, 587, 588, 589, 590, 591.

Supplemental Official Outer Continental Shelf Block Diagrams in the Gulf of Mexico, All Located Within Official Protraction Diagram NH17-07 (Gainesville)

Diagram Revised/Date/Block Numbers

Submerged Lands Act and “Section 8(g) Zone” blocks (Total of 76)—3/01/1999:

1, 2, 45, 46, 47, 89, 90, 91, 92, 93, 134, 135, 136, 137, 138, 180, 181, 182, 183, 226, 227, 270, 271, 272, 314, 315, 316, 317, 359, 360, 361, 362, 404, 405, 406, 449, 450, 493, 494, 495, 537, 538, 539, 582, 583, 584, 585, 627, 628, 629, 630, 672, 673, 674, 675, 717, 718, 719, 762, 763, 764, 806, 807, 808, 851, 852, 853, 895, 896, 897, 940, 941, 984, 985, 986, 987.

Supplemental Official Outer Continental Shelf Block Diagrams in the Gulf of Mexico, All Located Within Official Protraction Diagram NH17-10 (Tarpon Springs)

Diagram Revised/Date/Block Numbers

Submerged Lands Act and “Section 8(g) Zone” blocks (Total of 65)—3/01/1999:

17, 18, 19, 20, 21, 22, 23, 62, 63, 64, 65, 66, 67, 110, 111, 154, 155, 198, 199, 242, 243, 244, 286, 287, 288, 331, 332, 375, 376, 377, 419, 420, 421, 463, 464, 507, 508, 551, 552, 593, 594, 595, 596, 636, 637, 638, 639, 640, 680, 681, 682, 724, 725, 768, 769, 812, 813, 856, 857, 900, 901, 944, 945, 988, 989.

SUPPLEMENTARY INFORMATION: Copies of the revised OPDs are available for download in .pdf format from http://www.boem.gov/Official-Protraction-Diagrams/.

Copies of the revised SOBDs are available for download in .pdf format from http://www.boem.gov/Oil-and-Gas-Energy-Program/Mapping-and-Data/Supplemental-Official-OCS-Block-Diagrams-SOBDs.aspx.

FOR FURTHER INFORMATION CONTACT: Douglas Vandegraft, Chief, Mapping and Boundary Branch at (703) 787-1312 or via email at Doug.Vandegraft@boem.gov.

Dated: May 1, 2015.
Abigail Ross Hopper,
Director, Bureau of Ocean Energy Management.

[FR Doc. 2015-11993 Filed 5-15-15; 8:45 am]

BILLING CODE 4310-MR-P